ENVIRONMENTAL PROTECTION AGENCY

[EPA-HQ-OAR-2006-0894; FRL-11853-01-OMS]

Agency Information Collection Activities; Submission to Office of Management and Budget for Review and Approval; Comment Request; Registration of Fuels and Fuel Additives—Requirements for Manufacturers (Renewal)

AGENCY: Environmental Protection Agency (EPA).

ACTION: Notice.

SUMMARY: The Environmental Protection Agency (EPA) has submitted an information collection request (ICR) Registration of Fuels and Fuel Additives—Requirements for Manufacturers (EPA ICR Number 0309.17, OMB Control Number 2060-0150) to the Office of Management and Budget (OMB) for review and approval in accordance with the Paperwork Reduction Act (PRA). This is a proposed revision of the ICR, which is currently approved through March 31, 2024. Public comments were previously requested via the Federal Register on July 5, 2023, during a 60-day comment period. This notice allows for an additional 30 days for public comments.

DATES: Additional comments may be submitted on or before April 24, 2024.

ADDRESSES: Submit your comments, referencing Docket ID No. EPA-HQ-OAR-2006-0894, to EPA online using www.regulations.gov (our preferred method), by email to a-and-r-docket@epa.gov, or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: James W. Caldwell, Compliance Division, Office of Transportation and Air Quality, Mail Code 6405A, Environmental Protection Agency, 1200 Pennsylvania Ave. NW, Washington, DC 20460; telephone number: (202) 343-9303; fax number: (202) 343-2801; email address: caldwell.jim@epa.gov.

SUPPLEMENTARY INFORMATION: This is a proposed extension of the ICR which is currently approved through 3/31/24. An agency may not conduct or sponsor and a person is not required to respond to a collection of information unless it displays a currently valid OMB control number.

Public comments were previously requested via the Federal Register on July 5, 2023 during a 60-day comment period (88 FR 42938). This notice allows for an additional 30 days for public comments. Supporting documents which explain in detail the information that EPA will be collecting are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: In accordance with the regulations at 40 CFR part 79, subparts A, B, C, and D, Registration of Fuels and Fuel Additives, manufacturers (including importers) of motor-vehicle gasoline, motor-vehicle diesel fuel, and additives for those fuels, are required to have these products registered by EPA prior to their introduction into commerce. Registration involves providing a chemical description of the fuel or additive, and certain technical, marketing, and health-effects information. The development of health-effects data, as required by 40 CFR 79, Subpart F, is covered by a separate information collection. Manufacturers are also required to submit reports annually on production volume and related information. The information is used to identify products whose evaporative or combustion emissions may pose an unreasonable risk to public health, thus meriting further investigation and potential regulation. The information is also used to ensure that fuel additives comply with EPA requirements for protecting catalytic converters and other automotive emission controls. The data have been used to construct a comprehensive data base on fuel and additive composition. The Mine Safety and Health Administration of the Department of Labor restricts the use of diesel additives in underground coal mines to those registered by EPA. Most of the information is business confidential.

Form Numbers: EPA Forms 3520-12, for the registration of a new fuel, and 3520-13, for the registration of a new fuel additive, have been replaced with on-line registration at: https://www.epa.gov/fuels-registration-reporting-and-compliance-help/register-or-update-fuel-or-fuel-additive-request. EPA Forms for annual reports, 3520-12A, 3520-12Q, 3520-13A, and 3520-13B, are available at: https://www.epa.gov/fuels-registration-reporting-and-compliance-help/how-report-annually-fuel-and-fuel-additive and may be submitted on-line.

Respondents/affected entities: Manufacturers and importers of motor-vehicle gasoline, motor-vehicle diesel fuel, and additives to those fuels.

Respondents obligation to respond: Mandatory per 40 CFR part 79.

Estimated number of respondents: 1,975.

Frequency of response: Annually.

Total estimated burden: 20,990 hours per year. Burden is defined at 5 CFR 1320.03(b).

Total estimated cost: $2.3 million per year.

Changes in estimates: There is a decrease of 1,510 hours in the total estimated respondent burden compared with the ICR currently approved by OMB. This decrease is due to a slight decrease in the new registration activity and the conversion of the quarterly report for fuel manufacturers to an annual report.

Courtney Kerwin,
Director, Regulatory Support Division.

[FR Doc. 2024-06172 Filed 3-22-24; 8:45 am]

BILLING CODE 6560-50-P